NATIONAL SCIENCE FOUNDATION

Special Emphasis Panel in Elementary, Secondary and Informal Education; Notice of Meeting

In accordance with the Federal Advisory Committee Act (Pub. L. 92-463, as amended), the National Science Foundation announces the following meeting:

Name: Special Emphasis Panel in Elementary, Secondary and Informal Education (59).

Date/Time: Wednesday, April 25, 2001, 5:30 p.m. to 9 p.m., Thursday, April 26, 2001, 8:30 a.m. to 5:30 p.m., Friday, April 27, 2001, 8:30 a.m. to 3 p.m.

Place: The Wyndam City Center, 1143 New Hampshire Ave., NW., Washington, DC.

Type of Meeting: Closed.

Contact Person: Mr. John S. Bradley, Section Head, Division of Elementary, Secondary and Informal Education, National Science Foundation, 4201 Wilson Boulevard, Arlington, VA 22230. Telephone: (703) 292-8620.

Purpose of Meeting: To provide advice and recommendations concerning proposals for the Centers For Learning and Teaching Programs submitted to NSF for financial support.

Agenda: To review and evaluate proposals as part of the selection process for awards.

Reason for Closing: The proposals being reviewed include information of a proprietary or confidential nature, including technical information; financial data, such as salaries; and personal information concerning individuals associated with the proposals. These matters are exempt under 5 U.S.C. 552b(c)(4) and (6) of the Government in the Sunshine Act.

Dated: April 3, 2001.
Susanne Bolton,
Committee Management Officer.

[FR Doc. 01-8530 Filed 4-5-01; 8:45 am]

BILLING CODE 7555-01-M